DEPARTMENT OF DEFENSE

Office of the Secretary of Defense

[DOD-2006-OS-0205]

Privacy Act of 1974; Systems of Records

AGENCY: Defense Finance and Accounting Service, DOD.

ACTION: Notice to Add a New System of Records.

SUMMARY: The Defense Finance and Accounting Service (DFAS) is proposing to add a system of records notice to its inventory of record systems subject to the Privacy Act of 1974, (5 U.S.C. 552a), as amended.

DATES: This Action will be effective without further notice on November 13, 2006 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on October 5, 2006, to the House Committee on Government Reform, the Senate Committee on Homeland Security and Governmental Affairs, and the Office of Management and Budget (OMB) pursuant to paragraph 4c of Appendix I to OMB Circular No. A-130, ‘Federal Agency Responsibilities for Maintaining Records About Individuals,' dated December 12, 2000, 65 FR 239.

Dated: October 5, 2006.
C.R. Choate,
Alternate OSD Federal Register Liaison Officer, Department of Defense.

T7801

System name:

myInvoice System.

System location:

Defense Enterprise Computing Center, 7879 Wardleigh Rd, Hill AFB, UT 84056.

Defense Finance and Accounting Service-Columbus, (DFAS-CSSE/CO), 3990 East Broad Street, Columbus, OH 43213-1105.

Categories of individuals covered by the system:

DoD civilian employees, Military personnel, DoD contractors, and other government agency employees whose payments are made by the Defense Finance and Accounting Service and who register as a government user in the myInvoice system.

Categories of records in the system:

Individual's Name, Social Security Number, home address, and e-mail addresses, cage code, Dun and Bradstreet Number (DUNS), Tax Identification Number (TIN), contract number, delivery order number, contract line item number, invoice number, shipment number, invoice amount, amount paid, status of invoice, invoice date, invoice receipt date, material acceptance date, last action date, payment office, payment due date, actual payment date, voucher number, Electronic Funds Transfer (EFT) trace number, check number, Disbursing Station Symbol Number (DSSN), Receiving Bank ID, Account Number, Payee name, Payee address, discount amount, freight amount, interest paid, reason for interest, deduction amounts and reasons, and voucher remarks.

Authority for maintenance of the system:

5 U.S.C. 301, Departmental Regulations; 31 U.S.C. Chapter 33; E.O. 9397 (SSN); and Department of Defense Financial Management Regulation (DoDFMR) 7000.14R Volume 5, Chapter 11.

Purpose(s):

The purpose of this system of records is to monitor the status of vendor invoices to assist in monitoring contract and/or funding status; allow contractors/vendors the ability to view for further analysis the payment status of invoices submitted to DFAS for payment; and extract and compile data and reports for management studies and statistical analyses for use internally or externally as required by DoD or other government agencies.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

To Federal, State, and local agencies for the purpose of conducting computer matching programs regulated by the Privacy Act of 1974, as amended, (5 U.S.C. 552a).

To Federal agencies and individuals who have submitted invoices for payment for purposes of permitting the invoices to be tracked and monitored while being processed by DFAS.

To the U.S. Treasury Department to provide information on check issues and electronic funds transfers.

To the Internal Revenue Service to report taxable earnings and taxes withheld, accounting, and tax audits, and to compute or resolve tax liability.

To Federal Reserve banks to distribute payments made through the direct deposit system to financial organizations or their processing agents authorized by individuals to receive and deposit payments in their accounts.

The DFAS ‘Blanket Routine Uses' published at the beginning of the DFAS compilation of systems of records notices apply to this system.

Policies and practices for storing, retrieving, accessing, retaining, and disposing of records in the system:

Storage:

Records are maintained in electronic databases, on disk, CDs, tape, and hard copy.

Retrievability:

Records are retrieved by name and/or Social Security Number of the individual.

Safeguards:

Records are stored in office buildings protected by guards, controlled screening, use of visitor registers, electronic access, and/or locks. Access to records is limited to individuals who are properly screened and cleared on a need to know basis in the performance of their official duties. Passwords and digital signatures are used to control access to the systems data, and procedures are in place to deter and detect browsing and unauthorized access. Physical and electronic access are limited to persons responsible for servicing and authorized to use the record system.

Retention and disposal:

Records are cut off on closure of the contract and destroyed 6 years and 3 months after cutoff.

System manager(s) and address:

System Manager, Defense Finance and Accounting Service-Columbus, (DFAS-CSSE/CO), 3990 East Broad Street, Columbus, OH 43213-1105.

Notification procedure:

An individual seeking to determine whether information about themselves is contained in this system of records should address written inquiries to the Defense Finance and Accounting Service, Freedom of Information/Privacy Act Program Manager, Corporate Communications and Legislative Liaison, 6760 E. Irvington Place, Denver, CO 80279-8000.

Individuals should furnish full name, Social Security Number, current address, and telephone number.

Record access procedures:

An individual seeking access to information about themselves that is contained in this system should address written inquiries to Defense Finance and Accounting Service, Freedom of Information/Privacy Act Program Manager, Corporate Communications and Legislative Liaison, 6760 E. Irvington Place, Denver, CO 80279-8000.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Records are obtained from the individual concerned, Federal agencies and/or DoD Components.

Exemptions claimed for the system:

None.

[FR Doc. E6-16899 Filed 10-11-06; 8:45 am]

BILLING CODE 5001-06-P